DEPARTMENT OF TRANSPORTATION

National Highway Traffic Safety Administration

[U.S. DOT Docket Number NHTSA-2011-0126]

Reports, Forms, and Record Keeping Requirements

AGENCY: National Highway Traffic Safety Administration (NHTSA), Department of Transportation.

ACTION: Request for public comment on proposed collection of information.

SUMMARY: Before a Federal agency can collect certain information from the public, it must receive approval from the Office of Management and Budget (OMB). Under procedures established by the Paperwork Reduction Act of 1995, before seeking OMB approval, Federal agencies must solicit public comment on proposed collections of information, including extensions and reinstatement of previously approved collections.

This document describes one collection of information for which NHTSA intends to seek OMB approval.

DATES: Comments must be received on or before February 19, 2013.

ADDRESSES: You may submit comments, identified by the docket number in the heading of this document, by any of the following methods:

• Federal eRulemaking Portal: Go to http://www.regulations.gov. Follow the instructions for submitting comments on the electronic docket site by clicking on “Help” or “FAQ.”

• Hand Delivery: 1200 New Jersey Avenue SE., West Building Ground Floor, Room W12-140, between 9 a.m. and 5 p.m. Eastern Time, Monday through Friday, except Federal holidays.

• Fax: 202-493-2251.

Regardless of how you submit comments, you should mention the docket number of this document.

You may call the Docket Management Facility at 202-366-9826.

Instructions: For detailed instructions on submitting comments and additional information on the rulemaking process, see the Public Participation heading of the SUPPLEMENTARY INFORMATION section of this document. Note that all comments received will be posted without change to http://www.regulations.gov, including any personal information provided.

Privacy Act: Anyone is able to search the electronic form of all comments received into any of our dockets by the name of the individual submitting the comment (or signing the comment, if submitted on behalf of an association, business, labor union, etc.). You may review DOT's complete Privacy Act Statement in the Federal Register published on April 11, 2000 (65 FR 19477-78) or you may visit http://www.dot.gov/privacy.html.

Docket: For access to the docket to read background documents or comments received, go to http://www.regulations.gov, or the street address listed above. Follow the online instructions for accessing the dockets.

FOR FURTHER INFORMATION CONTACT: Kil-Jae Hong, NHTSA, 1200 New Jersey Avenue SE., W52-232, NPO-520, Washington, DC 20590. Ms. Hong's telephone number is (202) 493-0524 and email address is kil-jae.hong@dot.gov.

SUPPLEMENTARY INFORMATION: Under the Paperwork Reduction Act of 1995, before an agency submits a proposed collection of information to OMB for approval, it must first publish a document in the Federal Register providing a 60-day comment period and otherwise consult with members of the public and affected agencies concerning each proposed collection of information. The OMB has promulgated regulations describing what must be included in such a document. Under OMB's regulation (at 5 CFR 1320.8(d)),¹ an agency must ask for public comment on the following:

¹ Available at http://www.gpo.gov/fdsys/pkg/CFR-2012-title5-vol3/pdf/CFR-2012-title5-vol3-sec1320-5.pdf (last accessed Dec. 11, 2012).

(i) Whether the proposed collection of information is necessary for the proper performance of the functions of the agency, including whether the information will have practical utility;

(ii) the accuracy of the agency's estimate of the burden of the proposed collection of information, including the validity of the methodology and assumptions used;

(iii) how to enhance the quality, utility, and clarity of the information to be collected;

(iv) how to minimize the burden of the collection of information on those who are to respond, including the use of appropriate automated, electronic, mechanical, or other technological collection techniques or other forms of information technology, e.g. permitting electronic submission of responses.

In compliance with these requirements, NHTSA asks for public comments on the following proposed collection of information for which the agency is seeking approval from OMB:

Title: 49 CFR 575—Consumer Information Regulations Consumer Education Program Qualitative Research.

OMB Control Number: Not Assigned.

Form Number: None.

Affected Public: Passenger vehicle consumers and users.

Requested Expiration Date of Approval: Three years from approval date.

Abstract

The Energy Independence and Security Act of 2007 (EISA), enacted in December 2007, included a requirement that the National Highway Traffic Safety Administration (NHTSA) develop a consumer information and education campaign to improve consumer understanding of automobile performance with regard to fuel economy, Greenhouse Gas (GHG) emissions and other pollutant emissions; of automobile use of alternative fuels; and of thermal management technologies used on automobiles to save fuel. In order to achieve the objectives of the consumer education program and fulfill its statutory obligations, NHTSA proposes a multi-phased research project to gather the data and apply analyses and results from the project to develop the consumer information program and education campaign.

As NHTSA develops content and materials related to the consumer information program, it is important to test these materials to ensure they are effective at providing important information about fuel economy, GHGs and other emissions and alternative fuels. Although previous research provided the data necessary to inform draft development of these materials, including relevant knowledge gaps among consumers and topics that are most interesting and compelling, this new research will be to identify any refinements needed prior to finalizing the NPRM content and proposed campaign direction. The purpose of this research is to ensure that NHTSA's communication efforts utilize materials that are interesting, appealing and easy to comprehend. Asking consumers to share their opinions about the concepts, design and content will help NHTSA refine materials so that the campaign effectively engages and educates consumers, thus fulfilling NHTSA's statutory requirements.

NHTSA is seeking to conduct qualitative focus group research to guide the development and refinement of materials that will be used in this consumer information program. Specifically, the objectives guiding this research include the following:

1. Understand consumer perceptions of existing information on fuel economy, GHGs and other emissions, thermal management technologies and alternative fuels.

2. Determine the most effective and compelling messages that will improve understanding about fuel economy, GHGs and other emissions, thermal management technologies and alternative fuels.

3. Test materials and content developed to assess consumer comprehension and likelihood to encourage behavior change.

The materials that NHTSA expects to test in this research include the following:

• Key messages

• Interactive infographic blueprint

• YouTube driving video game user experience brief

• Fuel economy video storyboard and script

• Online banner advertisements (as animated GIFs)

○ 5 previously tested that have been adjusted to meet current messaging

○ 5 new ads

Specifically, NHTSA seeks to conduct two (2) focus groups each, homogeneous by gender, in three (3) cities (six groups in total). In order to obtain consumer feedback in different regions of the country, we recommend conducting these groups in one city in each of the following regions: Northeast, South or Midwest, and West. With consideration to the cities previously used for this research we plan to conduct these groups in the following metro areas:

• Philadelphia, PA (high-congestion Northeast market)

• Portland, OR (“green” West Coast market)

• St. Louis, MO (general consumer Midwest market)

For the purposes of this study, the recommended screening criteria are broad enough to include a cross-section of all vehicle drivers and purchasers throughout the U.S. Potential subjects will be asked several questions to determine their eligibility to participate in the focus groups. Respondents will be screened based on the following criteria:

• Participants must be 18 years or older.

• Participants must currently possess a valid driver's license.

• Participants must currently own or lease a vehicle.

• Participants must be the primary or a shared decision maker for vehicle purchases in their household.

Respondents in each city will be split into one of two groups: (1) Females; and (2) Males. It is our experience that in mixed-gender focus groups that cover technical or vehicle information, males will dominate the conversation and the females in the room will defer to their opinions. Splitting the groups in each city based on gender will allow us to collect information and feedback from both genders to inform the communications campaign.

Each focus group will last approximately two hours, and will include eight participants. Trends heard throughout various conversations will inform the consumer education plan and will be tested quantitatively through additional research. Throughout these groups, there will be opportunities to include quantitative aspects; however, strategic recommendations will be based on an analysis of conversations that explore whether or not consumers understand the fuel economy-related content being communicated and whether or not the messages provide consumers with the information they require and encourage them to seek out additional relevant information.

Estimated Annual Burden: 96 hours.

Number of Respondents: 48.

Comments are invited on: whether the proposed collection of information is necessary for the proper performance of the functions of the Department, including whether the information will have practical utility; the accuracy of the Department's estimate of the burden of the proposed information collection; ways to enhance the quality, utility and clarity of the information to be collected; and ways to minimize the burden of the collection of information on respondents.

Public Participation

How do I prepare and submit comments?

Your comments must be written and in English. To ensure that your comments are filed correctly in the Docket, please include the docket number of this document in your comments. Your comments must not be more than 15 pages long (see 49 CFR 553.21). We established this limit to encourage you to write your primary comments in a concise fashion. However, you may attach necessary additional documents to your comments. There is no limit on the length of the attachments.

If you are submitting comments in hard copy, please submit two copies of your comments, including the attachments, to DOT's Docket Management at the address given under ADDRESSES.

You may also submit your comments to the docket electronically by logging onto http://www.regulations.gov. Click on “Help” at the top of the screen to obtain instructions for filing the document electronically.

How can I be sure that my comments were received?

If you wish DOT's Docket Management to notify you upon its receipt of your comments, enclose a self-addressed, stamped postcard in the envelope containing your comments. Upon receiving your comments, Docket Management will return the postcard by mail.

How do I submit confidential business information?

If you wish to submit any information under a claim of confidentiality, you should submit three copies of your complete submission, including the information you claim to be confidential business information, to the Chief Counsel, NHTSA, at the address given above under FOR FURTHER INFORMATION CONTACT. In addition, you should submit two copies, from which you have deleted the claimed confidential business information, to Docket Management at the address given above under ADDRESSES. When you send a comment containing information claimed to be confidential business information, you should include a cover letter setting forth the information specified in our confidential business information regulation (49 CFR part 512).

Will the agency consider late comments?

We will consider all comments that Docket Management receives before the close of business on the comment closing date indicated above under DATES. To the extent possible, we also will consider comments that Docket Management receives after that date. If Docket Management receives a comment too late for us to consider it, we will consider that comment as an informal suggestion for future rulemaking action.

How can I read the comments submitted by other people?

You may read the comments received by Docket Management at the address given under ADDRESSES. The hours of the Docket are indicated above in the same location. You also may see the comments on the Internet. To read the comments on the Internet, go to http://www.regulations.gov, and follow the instructions for accessing the Docket.

Please note that even after the comment closing date, we will continue to file relevant information in the Docket as it becomes available. Further, some people may submit late comments. Accordingly, we recommend that you periodically check the Docket for new material.

Gregory A. Walter,
Senior Associate Administrator, Policy and Operations.

[FR Doc. 2012-30621 Filed 12-18-12; 8:45 am]

BILLING CODE 4910-59-P